DEPARTMENT OF ENERGY

Federal Energy Regulatory Commission

[Docket No. RP00-83-006]

Texas Gas Transmission Corporation; Notice of Proposed Changes in FERC Gas Tariff

December 12, 2000.

Take notice that on December 4, 2000, Texas Gas Transmission Corporation (Texas Gas) tendered for filing as part of its FERC Gas Tariff, a corrected electronic version of a notice that should have accompanied its November 13, 2000 filing in First Revised Volume No. 1, Substitute First Revised Sheet No. 126 and Second Substitute First Revised Sheet No. 278.

Texas Gas states that the revised tariff sheets are being filed to comply with the Commission's Order issued on October 30, 2000, 1 in Docket No. RP00-83-004 and RP00-83-005, implementing a new summer no-notice (SNS) service on the Texas Gas system. Texas Gas also states that the November 13, 2000 filing was noticed as having been filed on November 21, 2000, whereas the actual filing date was November 13, 2000.

Texas Gas states that copies of this filing have been served upon Texas Gas's jurisdictional customers, interested state commissions, and those parties appearing on the official service list.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32087 Filed 12-15-00; 8:45 am]

BILLING CODE 6717-01-M